DEPARTMENT OF LABOR

Employment and Training Administration

[TA-W-71,687]

Atmel Corporation, Test Department, Colorado Springs, CO; Notice of Termination of Investigation

Pursuant to Section 223 of the Trade Act of 1974, as amended, an investigation was initiated in response to a petition filed on July 15, 2009 by three workers on behalf of workers of Atmel Corporation, Test Department, Colorado Springs, Colorado.

The petitioning group of workers is covered by an active certification, (TA-W-64,701) which expires on January 13, 2011. Consequently, further investigation in this case would serve no purpose, and the investigation has been terminated.

Signed at Washington, DC, this 4th day of August 2009.
Richard Church,
Certifying Officer, Division of Trade Adjustment Assistance.

[FR Doc. E9-20471 Filed 8-25-09; 8:45 am]

BILLING CODE 4510-FN-P